DEPARTMENT OF EDUCATION

34 CFR Part 200

RIN 1810-AB01

[Docket ID ED-2008-OESE-0003]

Title I of the Elementary and Secondary Education Act of 1965

AGENCY: Office of Elementary and Secondary Education, Department of Education.

ACTION: Notice of public meetings on the proposed regulations for Title I of the Elementary and Secondary Education Act of 1965.

SUMMARY: On April 23, 2008, the Secretary of Education (Secretary) published a notice of proposed rulemaking (NPRM) in the Federal Register (73 FR 22020) to amend the regulations implementing Title I of the Elementary and Secondary Education Act of 1965, as reauthorized by the No Child Left Behind Act of 2001 (NCLB). The Secretary announces a series of public meetings to seek public comments on these proposed regulations.

Dates, Times, and Locations of Public Meetings: See SUPPLEMENTARY INFORMATION section for meeting dates, times, and locations.

FOR FURTHER INFORMATION CONTACT: Zollie Stevenson, Jr., U.S. Department of Education, 400 Maryland Ave., SW., room 3W230, Washington, DC 20202-6132. Phone: at 202-260-1824. If you use a telecommunications device for the deaf (TDD), you may call the Federal Relay Service (FRS) at 1-800-877-8339.

SUPPLEMENTARY INFORMATION: On April 23, 2008, the Secretary published an NPRM in the Federal Register (73 FR 22020) to amend certain of the Title I regulations. The purpose of these proposed regulations is to build on the advancements of State accountability and assessment systems over the six years since NCLB was signed into law, while incorporating key feedback from the field into an even clearer vision of what it takes to educate each and every one of our Nation's school children. The proposed regulations would clarify and strengthen current Title I regulations in the areas of assessment, accountability, supplemental educational services (SES), and public school choice. Issuing regulations that strengthen Title I implementation in these areas will help bring about higher-quality assessments and stronger accountability for results, as well as provide parents with the information they need to make informed decisions about public school choice and SES. A copy of the NPRM is available at http://www.ed.gov/policy/elsec/reg/proposal/index.html.

The Department is accepting public comments on the NPRM through June 23, 2008. Comments must be submitted in writing to the Department in accordance with the instructions in the NPRM. We look forward to receiving your comments on these proposed regulations to ensure that they accomplish our intended objectives.

Public Meetings

The Department will also be holding four public meetings to receive comments on the NPRM. The meetings will occur on the following dates at the times and locations indicated:

Wednesday, May 14, 2008

Hilton Boston Back Bay Hotel, 40 Dalton Street, Boston, MA 02115, Time: 9 a.m.-12 p.m. & 2 p.m.-5 p.m., Meeting Room: Fenway Room.

Thursday, May 15, 2008

Georgia Perimeter College, Dunwoody Campus, 2101 Womack Road, Dunwoody, GA 30338, Time: 9 a.m.-12 p.m. & 2 p.m.-5 p.m., Meeting Room: Auditorium, C1100, North Campus.

Monday, May 19, 2008

Sheraton Kansas City Sports Complex Hotel, 9103 East 39th Street, Kansas City, MO 64133, Time: 9 a.m.-12 p.m. & 2 p.m.-5 p.m., Meeting Room: Royal Ballroom.

Thursday, May 22, 2008

W Hotel, 1112 4th Avenue, Seattle, WA 98101, Time: 9 a.m.-12 p.m. & 2 p.m.-5 p.m., Meeting Room: Great Room 1.

Individuals who wish to present comments during a public meeting should register at Special.Events@ed.gov at least one week before the public meeting. Any meeting time that remains after the Web site registrations are processed will be made available on the day of the meeting. Individuals who have not registered on the Web site and who wish to present comments should do so at the on-site registration desk on the day of the meeting. We will process Web-site and on-site registrations on a first-come, first-served basis.

Each individual will be allowed three minutes to present comments. Individuals are requested to submit three written copies and an electronic file (CD or diskette) of their comments at the meeting, which should be labeled with their name and contact information. Transcripts of these meetings, along with any written comments received, will be made a part of the official rulemaking record.

The meeting site is accessible to individuals with disabilities. Individuals who need accommodations in order to attend the meeting (e.g., interpreting services, assistive listening devices, materials in alternative formats) should notify Frances Hopkins at Special.Events@ed.gov or call 202-205-6268 no later than 14 days prior to the meeting the individual will attend. We will attempt to meet requests for accommodations after this date, but cannot guarantee their availability.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at http://www.gpoaccess.gov/nara/index.html

Dated: April 24, 2008.
Kerri L. Briggs,
Assistant Secretary for Elementary and Secondary Education.

[FR Doc. E8-9351 Filed 4-28-08; 8:45 am]

BILLING CODE 4000-01-P